NUCLEAR REGULATORY COMMISSION

Documents Containing Reporting or Recordkeeping Requirements: Office of Management and Budget (OMB) Review, Correction

AGENCY: Nuclear Regulatory Commission.

ACTION: Documents containing reporting or recordkeeping requirements: Office of Management and Budget (OMB) review; correction.

SUMMARY: This document corrects a notice appearing in the Federal Register on June 8, 2006 (71 FR 33320), that announces the recent submission of a proposal for the collection of information under the Paperwork Reduction Act of 1995 (44 U.S.C. chapter 35). This action corrects the comment closing date for the information collection 10 CFR parts 20 and 32, “National Source Tracking of Sealed Sources” and NRC Form 748, “National Source Tracking Transaction Report.”

SUPPLEMENTARY INFORMATION: On page 33321, first column, second paragraph, the date “August 7, 2006” should read “July 10, 2006.”

Dated in Rockville, Maryland, this 14th day of June 2006.
For the U.S. Nuclear Regulatory Commission.
Brenda Jo. Shelton,
NRC Clearance Officer, Office of Information Services.

[FR Doc. E6-9630 Filed 6-19-06; 8:45 am]

BILLING CODE 7590-01-P